DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of February 14, 2025 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Assistant Administrator (Acting) for Risk Management, Federal Emergency Management Agency, Department of Homeland Security.

Community | Community map repository address
Bourbon County, Kansas and Incorporated Areas Docket No.: FEMA-B-2385
City of Bronson | City Hall, 505 Clay Street, Bronson, KS 66716.
City of Fort Scott | City Hall, 123 South Main Street, Fort Scott, KS 66701.
City of Fulton | City Hall, 214 West Osage Street, Fulton, KS 66738.
City of Mapleton | Community Center, 565 North Eldora Street, Mapleton, KS 66754.
City of Redfield | Community Center, 312 North Pine Street, Redfield, KS 66769.
Unincorporated Areas of Bourbon County | Bourbon County Courthouse, 210 South National Avenue, Fort Scott, KS 66701.
Adair County, Missouri and Incorporated Areas Docket No.: FEMA-B-2393
City of Brashear | City Hall, 105 East Main Street, Brashear, MO 63533.
City of Kirksville | City Hall, 201 South Franklin Street, Kirksville, MO 63501.
City of Novinger | City Hall, 302 Marion Avenue, Novinger, MO 63559.
Unincorporated Areas of Adair County | Adair County Courthouse, 106 West Washington Street, Kirksville, MO 63501.
Yankton County, South Dakota and Incorporated Areas Docket No.: FEMA-B-2377
City of Irene | City Hall, 110 South Till Avenue, Irene, SD 57037.
City of Yankton | City Hall, 416 Walnut Street, Yankton, SD 57078.
Town of Gayville | Town Shop, 408 Merchant Street, Gayville, SD 57031.
Town of Mission Hill | City Hall, 118 Washington Avenue, Mission Hill, SD 57046.
Town of Utica | Utica Multiuse Facility, 303 3rd Street, Utica, SD 57067.
Town of Volin | Town Hall, 300 Main Street, Volin, SD 57072.
Unincorporated Areas of Yankton County | Yankton County Government Center, 321 West 3rd Street, Yankton, SD 57078.
Carter County, Tennessee and Incorporated Areas Docket No.: FEMA-B-2371
City of Elizabethton | City Hall Building Department, 136 South Sycamore Street, Elizabethton, TN 37643.
Unincorporated Areas of Carter County | Carter County Planning and Zoning, 300 North Main Street, Elizabethton, TN 37643.
Dekalb County, Tennessee and Incorporated Areas Docket No.: FEMA-B-2290
Unincorporated Areas of Dekalb County | Dekalb County Courthouse, 1 Public Square, Room 204, Smithville, TN 37166.
Putnam County, Tennessee and Incorporated Areas Docket No.: FEMA-B-2307
Unincorporated Areas of Putnam County | Putnam County Planning Office, 67 South Elm Avenue, Cookeville, TN 38501.
Smith County, Tennessee and Incorporated Areas Docket No.: FEMA-B-2303
Town of Carthage | Municipal Building, 314 Spring Street, Carthage, TN 37030.
Town of Gordonsville | City Hall, 63 East Main Street, Gordonsville, TN 38563.
Town of South Carthage | South Carthage Town Hall/Municipal Building, 106 South Main Street, Carthage TN 37030.
Unincorporated Areas of Smith County | Smith County Planning Commission, 303 High Street North, Carthage, TN 37030.
Amherst County, Virginia and Incorporated Areas Docket No.: FEMA-B-2370
Town of Amherst | Town Hall, 174 South Main Street, Amherst, VA 24521.
Unincorporated Areas of Amherst County | Amherst County Administration Building, 153 Washington Street, Amherst, VA 24521.
Klickitat County, Washington and Incorporated Areas Docket No.: FEMA-B-2292
City of Bingen | City Hall, 112 North Ash Street, Bingen, WA 98605.
City of Goldendale | City Hall, 1103 South Columbus Avenue, Goldendale, WA 98620.
City of White Salmon | City Hall, 100 North Main Street, White Salmon, WA 98672.
Unincorporated Areas of Klickitat County | Klickitat County Services Building, 115 West Court Street, Mail Stop 302, Goldendale, WA 98620.

[FR Doc. 2024-24352 Filed 10-18-24; 8:45 am]

BILLING CODE 9110-12-P